DEPARTMENT OF ENERGY

Federal Energy Regulatory Commission

[Docket No. CP13-73-000]

Sierrita Gas Pipeline LLC; Supplemental Notice of Intent To Prepare an Environmental Impact Statement for the Sierrita Pipeline Project and Request for Comments on Environmental Issues

As previously noticed on August 1, 2012, and supplemented herein, the staff of the Federal Energy Regulatory Commission (FERC or Commission) will prepare an environmental impact statement (EIS) that will discuss the environmental impact of the Sierrita Pipeline Project (Project) involving construction and operation of facilities by Sierrita Gas Pipeline LLC (Sierrita) in Pima County, Arizona (the project was previously known as the Sasabe Lateral Project). The Commission will use this EIS in its decision-making process to determine whether the Project is in the public convenience and necessity. The Commission staff began its review of the Project on May 2, 2012, during the pre-filing process under Docket No. PF12-11-000. The initial scoping period closed on October 27, 2012.

This notice announces the opening of a supplemental scoping period that the Commission will use to gather input from the public and interested agencies due to a change in the proposed Project route. Specifically, this notice is requesting comments as they relate to Sierrita's proposed route modification filed on March 25, 2013, and detailed below. Your input will help the Commission staff determine what issues relevant to the route modification need evaluation in the EIS. All previous comments submitted during the pre-filing process and initial scoping period do not need to be resubmitted. Further details on how to submit written comments are in the Public Participation section of this notice. Please note that this supplemental scoping period will close on May 13, 2013.

This notice is being sent to the Commission's current environmental mailing list for the Project. State and local government representatives should notify their constituents of the proposed project and encourage them to comment on their areas of concern.

Summary of the Project (as Supplemented)

The Project would consist of the installation of about 60 miles of 36-inch-diameter natural gas pipeline and construction of two meter stations and various other appurtenant facilities in Pima County, Arizona. The pipeline would link El Paso Natural Gas Company's ¹ existing South Mainline System near Tucson to an interconnect with the Sasabe-Guaymas Pipeline at the U.S.-Mexico border near the town of Sasabe, Arizona.

¹ El Paso Natural Gas Company is an affiliate of Sierrita.

Sierrita's route modification shifts an approximate 10 mile segment of the originally proposed pipeline route eastward to a new location closer to State Highway 286. It would leave the original proposed route at milepost 25.7 and rejoin at milepost 36.3. The route modification would be approximately 12 miles long and would add approximately 1.5 miles of length to the overall project. The general location of the Project facilities and route modification are shown in Appendix 1.²

² The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Updated environmental information concerning the route modification, including field surveys, is pending and Sierrita will file this information with the FERC when completed.

The EIS Process

The National Environmental Policy Act (NEPA) requires the Commission to take into account the environmental impacts that could result from an action whenever it considers the issuance of a Certificate of Public Convenience and Necessity. NEPA also requires us ³ to discover and address concerns the public may have about proposals. This process is referred to as “scoping.” The main goal of the scoping process is to focus the analysis in the EIS on the important environmental issues. By this notice, the Commission requests public comments on the scope of the issues related to the route modification to address in the EIS. We will consider all filed comments during the preparation of the EIS.

³ “We,” “us,” and “our” refer to the environmental staff of the Commission's Office of Energy Projects.

In the EIS we will discuss impacts that could occur as a result of the construction and operation of the Project under these general headings:

• Geology and soils;

• Water resources, fisheries, and wetlands;

• Vegetation, wildlife, and endangered and threatened species;

• Land use and cumulative impacts;

• Socioeconomics;

• Cultural resources;

• Air quality and noise; and

• Public safety.

We will also evaluate possible alternatives to the Project or portions of the Project, and make recommendations on how to lessen or avoid impacts on the various resource areas.

The EIS will present our independent analysis of the issues. We will publish and distribute the draft EIS for public comment. After the comment period, we will consider all timely comments and revise the document, as necessary, before issuing a final EIS. To ensure we have the opportunity to consider and address your comments, please carefully follow the instructions in the Public Participation section below.

Currently, the U.S. Fish and Wildlife Service (both the Arizona Ecological Services Office and the Buenos Aires National Wildlife Refuge), the Arizona Game and Fish Department, and the U.S. Customs and Border Protection are participating as cooperating agencies in the preparation of the EIS to satisfy their NEPA responsibilities related to this Project or provide technical expertise.⁴

⁴ The Council on Environmental Quality regulations addressing cooperating agency responsibilities are at Title 40, Code of Federal Regulations, Part 1501.6.

Public Participation

You can make a difference by providing us with your specific comments or concerns about the route modification of the Project. Your comments should focus on the potential environmental effects, reasonable alternatives, and measures to avoid or lessen environmental impacts associated with the route modification. The more specific your comments, the more useful they will be. To ensure that your comments are timely and properly recorded, please send your comments so that the Commission receives them in Washington, DC on or before May 13, 2013. This is not your only public input opportunity; please refer to the Environmental Review Process flow chart in Appendix 2.

For your convenience, there are three methods you can use to submit your comments to the Commission. In all instances, please reference the Project docket number (CP13-73) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, whose property was affected by the corresponding segment of the original route, and anyone who submits comments on the Project. We will update the environmental mailing list as the analysis proceeds to ensure that we send the information related to this environmental review to all individuals, organizations, and government entities interested in and/or potentially affected by the proposed Project.

Copies of the completed draft EIS will be sent to the environmental mailing list for public review and comment.

Additional Information

Additional information about the Project is available from the Commission's Office of External Affairs, at (866) 208-FERC, or on the FERC Web site (www.ferc.gov) using the eLibrary link. Click on the eLibrary link, click on “General Search” and enter the docket number, excluding the last three digits in the Docket Number field (i.e., CP13-73). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Finally, public meetings or site visits will be posted on the Commission's calendar located at www.ferc.gov/EventCalendar/EventsList.aspx along with other related information.

Dated: April 12, 2013.
Kimberly D. Bose,
Secretary.

[FR Doc. 2013-09260 Filed 4-18-13; 8:45 am]

BILLING CODE 6717-01-P